DEPARTMENT OF COMMERCE

International Trade Administration

A-570-894

Notice of Amended Final Determination of Sales at Less than Fair Value and Antidumping Duty Order: Certain Tissue Paper Products from the People's Republic of China

AGENCY: Import Administration, International Trade Administration, Department of Commerce.

EFFECTIVE DATE: March 30, 2005.

FOR FURTHER INFORMATION CONTACT: Kit L. Rudd, AD/CVD Operations, Office 9, Import Administration, International Trade Administration, U.S. Department of Commerce, 14th Street and Constitution Avenue NW, Washington, DC 20230; telephone: (202) 482-1385.

SUPPLEMENTARY INFORMATION:

AMENDMENT TO FINAL DETERMINATION

In accordance with sections 735(d) and 777(i)(1) of the Tariff Act of 1930, as amended, (“the Act”), on February 14, 2005, the Department of Commerce (“the Department”) published its final determination of sales at less than fair value (“LTFV”) in the investigation of certain tissue paper products from the People's Republic of China (“PRC”). See Notice of Final Determination of Sales at Less Than Fair Value: Certain Tissue Paper Products from the People's Republic of China, 70 FR 7475 (February 14, 2005) (“Final Determination”) and corresponding “Issues and Decision Memorandum” dated February 3, 2005.

On February 14, 2005, Cleo Inc., Crystal Creative Products, Inc., and Marvel Products, Inc. (collectively, “Importers”) timely filed allegations that the Department made ministerial errors in its Final Determination with respect to calculation of the surrogate profit financial ratio, application of the overhead financial ratio and use of surrogate values.

On February 22, 2005, the Petitioners¹ filed rebuttal comments to ministerial error allegations submitted by the Importers. On February 24, 2005, the Importers filed comments responding to the Petitioners' February 22, 2005, rebuttals. On March 4, 2005, pursuant to 19 CFR 351.224, the Department rejected the Importers' February 24, 2005 submission of further rebuttal comments. See Letter from Alex Villanueva, Program Manager, China/NME Unit, Office 9 to Importers Regarding Ministerial Error Allegation Rebuttal Comments, dated March 4, 2005.

¹ Seaman Paper Company of Massachusetts Inc.; Eagle Tissue LLC; Flower City Tissue Mills Co.; Garlock Printing & Converting, Inc.; Paper Service Ltd.; Putney Paper Co., Ltd.; and the Paper, Allied-Industrial, Chemical and Energy Workers International Union AFL-CIO, CLC (collectively “Petitioners”).

A ministerial error is defined as an error in addition, subtraction, or other arithmetic function, clerical error resulting from inaccurate copying, duplication, or the like, and any other similar type of unintentional error which the Department considers ministerial. See 19 CFR 351.224(f).

After analyzing the Importers' comments and Petitioners' rebuttal comments, we have determined, in accordance with 19 CFR 351.224(e), that we made no ministerial errors in the calculations we performed for the Final Determination. For a detailed discussion of these ministerial errors, as well as the Department's analysis, see Antidumping Duty Investigation of Certain Tissue Paper Products from the People's Republic of China (“China”): Analysis of Allegations of Ministerial Errors, dated March 16, 2005.

In addition, on February 22, 2005, at the direction of the National Import Specialist, the Department has added the following Harmonized Tariff Schedule of the United States (“HTSUS”) classifications to the listing of HTS subheadings contained in the Final Determination: 4804.31.1000; 4804.31.2000; 4804.31.4020; 4804.31.4040; 4804.31.6000; 4805.91.1090; 4805.91.5000; and 4805.91.7000.

Finally, in the Final Determination, we inadvertently identified Section A Respondent Anhui Light Industrial Import & Export Co., Ltd. (“Anhui Light”) as receiving a separate rate, although the Department had determined that Anhui Light did not meet the Separate Rates criteria. See Preliminary Determination: Certain Tissue Paper Products From The People's Republic of China Separate Rates for Exporters, dated September 14, 2004 at 20. We also neglected to include Section A Respondent BA Marketing & Industrial Co., Ltd. (“BA Marketing”) which qualified for and received a separate rate.

Therefore, we are correcting the Final Determination of sales at LTFV in the antidumping duty investigation of certain tissue paper products from the PRC. The revised scope and corrected list of Section A Respondents are listed below.

Scope of the Order

The tissue paper products subject to this order are cut-to-length sheets of tissue paper having a basis weight not exceeding 29 grams per square meter. Tissue paper products subject to this order may or may not be bleached, dye-colored, surface-colored, glazed, surface decorated or printed, sequined, crinkled, embossed, and/or die cut. The tissue paper subject to this order is in the form of cut-to-length sheets of tissue paper with a width equal to or greater than one-half (0.5) inch. Subject tissue paper may be flat or folded, and may be packaged by banding or wrapping with paper or film, by placing in plastic or film bags, and/or by placing in boxes for distribution and use by the ultimate consumer. Packages of tissue paper subject to this order may consist solely of tissue paper of one color and/or style, or may contain multiple colors and/or styles.

The merchandise subject to this order does not have specific classification numbers assigned to them under the HTSUS. Subject merchandise may be under one or more of several different subheadings, including: 4802.30; 4802.54; 4802.61; 4802.62; 4802.69; 4804.31.1000; 4804.31.2000; 4804.31.4020; 4804.31.4040; 4804.31.6000; 4804.39; 4805.91.1090; 4805.91.5000; 4805.91.7000; 4806.40; 4808.30; 4808.90; 4811.90; 4823.90; 4820.50.00; 4802.90.00; 4805.91.90; 9505.90.40. The tariff classifications are provided for convenience and customs purposes; however, the written description of the scope of this order is dispositive.

Excluded from the scope of this order are the following tissue paper products: (1) tissue paper products that are coated in wax, paraffin, or polymers, of a kind used in floral and food service applications; (2) tissue paper products that have been perforated, embossed, or die-cut to the shape of a toilet seat, i.e., disposable sanitary covers for toilet seats; (3) toilet or facial tissue stock, towel or napkin stock, paper of a kind used for household or sanitary purposes, cellulose wadding, and webs of cellulose fibers (HTSUS 4803.00.20.00 and 4803.00.40.00).

Antidumping Duty Order

In accordance with section 735(a) of the Act, the Department made its final determination that certain tissue paper products from the PRC are being, or are likely to be, sold in the United States at LTFV as provided in section 735 of the Act. See Final Determination. On March 21, 2005, the ITC notified the Department of its final determination pursuant to 735(b)(1)(A)(i) of the Act that an industry in the United States is materially injured by reason of LTFV imports of subject merchandise from the PRC.In addition, the ITC notified the Department of its final determination that critical circumstances do not exist with respect to imports of subject merchandise from all producers and exporters from the PRC. Therefore, the Department will instruct U.S. Customs and Border Protection (“CBP”) to lift suspension and to release any bond or other security, and refund any cash deposit made, to secure the payment of antidumping duties with respect to entries of the merchandise entered, or withdrawn from warehouse, for consumption prior to September 21, 2004, the date of publication of the preliminary determination in the Federal Register. See Certain Tissue Paper Products and Certain Crepe Paper Products from the People's Republic of China: Notice of Preliminary Determinations of Sales at Less Than Fair Value, Affirmative Preliminary Determination of Critical Circumstances and Postponement of Final Determination for Certain Tissue Paper Products, 69 FR 56407 (September 21, 2004) (“Preliminary Determination”).

In accordance with section 736(a)(1) of the Act, the Department will direct CBP to assess, upon further instruction by the Department, antidumping duties equal to the amount by which the normal value of the merchandise exceeds the export price of the merchandise for all relevant entries of certain tissue paper products from the PRC. These antidumping duties will be assessed on all unliquidated entries of certain tissue paper products from the PRC entered, or withdrawn from the warehouse, for consumption on or after September 21, 2004, the date on which the Department published its Preliminary Determination.

Section 733(d) of the Act states that instructions issued pursuant to an affirmative preliminary determination may not remain in effect for more than four months except where exporters representing a significant proportion of exports of the subject merchandise request the Department to extend that four-month period to no more than six months. At the request of exporters that account for a significant proportion of certain tissue paper products, we extended the four-month period to no more than six months. See Preliminary Determination at 56410. In this investigation, the six-month period beginning on the date of the publication of the Preliminary Determination ended on March 19, 2005. Definitive duties are to begin on the date of publication of the ITC's final injury determination. See Section 737 of the Act. Therefore, in accordance with section 733(d) of the Act and our practice, we will instruct CBP to terminate the suspension of liquidation and to liquidate, without regard to antidumping duties, unliquidated entries of certain tissue paper from the PRC entered, or withdrawn from warehouse, for consumption on or after March 20, 2005, and before the date of publication of the ITC's final injury determination in the Federal Register. Suspension of liquidation will continue on or after this date.

On or after the date of publication of the ITC's notice of final determination in the Federal Register, CBP will require, at the same time as importers would normally deposit estimated duties on this merchandise, a cash deposit equal to the estimated weighted-average antidumping duty margins as listed below. The “PRC-wide” rate applies to all exporters of subject merchandise not listed specifically.

We determine that the percentage weighted-average margins are as follows:

Company | Weighted-Average Margin (Percent)
PRC-Wide Rate | 112.64

Certain Tissue Paper Products from PRC
Section A Respondents
Manufacturer/Exporter | Weighted-Average Margin (Percent)
Qingdao Wenlong Co. Ltd. (“Qingdao Wenlong”) | 112.64
Fujian Nanping Investment & Enterprise Co. (“Fujian Nanping”) | 112.64
Fuzhou Light Industry Import & Export Co. Ltd. (“Fuzhou Light”) | 112.64
Guilin Qifeng Paper Co. Ltd. (“Guilin Qifeng”) | 112.64
Ningbo Spring Stationary Limited Company (“Ningbo Spring”) | 112.64
Everlasting Business & Industry Corporation, Ltd. (“Everlasting”) | 112.64
BA Marketing & Industrial Co. Ltd. (“BA Marketing”) | 112.64
Samsam Production Limited & Guangzhou Baxi Printing Products Limited (“Samsam”) | 112.64
Max Fortune Industrial Limited (“Max Fortune”) | 112.64

This notice constitutes the antidumping duty order with respect to certain tissue paper products from the PRC. Interested parties may contact the Department's Central Records Unit, Room B-099 of the main Commerce building, for copies of an updated list of antidumping duty

orders currently in effect. This order is published in accordance with section 736(a) of the Act and 19 CFR 351.211.

Dated: March 23, 2005.
Joseph A. Spetrini,
Acting Assistant Secretary for Import Administration.

[FR Doc. 05-6329 Filed 3-29-05; 8:45 am]

BILLING CODE 3510-DS-S